DEPARTMENT OF COMMERCE

International Trade Administration

University of Connecticut, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, and Constitution Avenue., NW., Washington, DC.

Docket Number: 08-033. Applicant: University of Connecticut, Storrs, CT 06269-3136. Instrument: Electron Microscope, Model Tecnai G² Spirit TWIN. Manufacturer: FEI Company, Czech Republic. Intended Use: See notice at 73 FR 42549, July 22, 2008.

Docket Number: 08-034 Applicant: Harvard Medical School, Boston, MA 02115. Instrument: Electron Microscope, Model Tecnai G² F20. Manufacturer: FEI Company, The Netherlands. Intended Use: See notice at 73 FR 42549, July 22, 2008.

Comments: None received. Decision: Approved. No instrument of equivalent scientific value to the foreign instrument, for such purposes as these instruments are intended to be used, was bing manufactured in the United States at the time the instruments were ordered. Reasons: Each foreign instrument is an electron microscope and is intended for research or scientific educational uses requiring an electron microscope. We know of no electron microscope, or any other instrument suited to these purposes, which was being manufactured in the United States at the time of the order of each instrument.

Dated: August 11, 2008.
Faye Robinson,
Director, Statutory Import Programs Staff, Import Administration.

[FR Doc. E8-18847 Filed 8-14-08; 8:45 am]

BILLING CODE 3510-DS-M